DEPARTMENT OF AGRICULTURE

Animal and Plant Health Inspection Service

[Docket No. APHIS-2010-0072]

Notice of Request for Extension of Approval of an Information Collection; Veterinary Services; Customer Service Survey

AGENCY: Animal and Plant Health Inspection Service, USDA.

ACTION: Extension of approval of an information collection; comment request.

SUMMARY: In accordance with the Paperwork Reduction Act of 1995, this notice announces the Animal and Plant Health Inspection Service’s intention to request extension of approval of an information collection to evaluate service delivery by Veterinary Services to the public.

DATES: We will consider all comments that we receive on or before October 12, 2010.

ADDRESSES: You may submit comments by either of the following methods:

• Federal eRulemaking Portal: Go to (http://www.regulations.gov/fdmspublic/component/main?main=DocketDetail&d=APHIS-2010-0072) to submit or view comments and to view supporting and related materials available electronically.

• Postal Mail/Commercial Delivery: Please send one copy of your comment to Docket No. APHIS-2010-0072, Regulatory Analysis and Development, PPD, APHIS, Station 3A-03.8, 4700 River Road Unit 118, Riverdale, MD 20737-1238. Please state that your comment refers to Docket No. APHIS-2010-0072.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: For information on the Veterinary Services customer service survey, contact Ms. Pam Hart, Management Analyst, Veterinary Services, 920 Main Campus Drive, Suite 200, Raleigh NC 27606; (919) 855-7250; or email (pamela.j.hart@aphis.usda.gov). For copies of more detailed information on the information collection, contact Mrs. Celeste Sickles, APHIS’ Information Collection Coordinator, at (301) 851-2908.

SUPPLEMENTARY INFORMATION: Title: Veterinary Services; Customer Service Survey.

OMB Number: 0579-0334.

Type of Request: Extension of approval of an information collection.

Abstract: The Animal and Plant Health Inspection Service (APHIS) of the U.S. Department of Agriculture, among other things, regulates, and provides services related to, the importation, interstate movement, and exportation of animals, animal products, and other articles to prevent the spread of pests and diseases of livestock. Veterinary Services (VS), APHIS, is the program unit that carries out these activities to protect animal health.

In an effort to evaluate service delivery, VS conducts a survey to evaluate its customer service to the public. The survey is in the form of a short questionnaire that VS presents to individuals who use its services. Completion of the questionnaire is voluntary, and responses do not identify the individual respondent. Respondents are asked to identify the type of customer they are (e.g., animal/animal product producer, animal importer/exporter), and then to rate the services received in terms of courtesy, timeliness, helpfulness, etc., as well as the overall experience. The questionnaire also allows respondents to provide comments.

The information collected is used to identify areas in which VS can improve service delivery to the public and more efficiently meet the needs and expectations of customers.

We are asking the Office of Management and Budget (OMB) to approve our use of this information collection activity for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.0458 hours per response.

Respondents: Members of the public who receive services from Veterinary Services.

Estimated annual number of respondents: 5,000.

Estimated annual number of responses per respondent: 1.

Estimated annual number of responses: 5,000.

Estimated total annual burden on respondents: 229 hours. (Due to averaging, the total annual burden hours may not equal the product of the annual number of responses multiplied by the reporting burden per response.)

All responses to this notice will be summarized and included in the request for OMB approval. All comments will also become a matter of public record.

Done in Washington, DC, this 4th day of August 2010.

Gregory Parham
Acting Administrator, Animal and Plant Health Inspection Service.

[FR Doc. 2010-19693 Filed 8-9-10; 8:45 am]

BILLING CODE 3410-34-S